DEPARTMENT OF ENERGY

10 CFR Part 1042

[DOE-HQ-2025-0025]

RIN 1903-AA22

Rescinding Regulations Related to Nondiscrimination on the Basis of Sex in Education Programs or Activities Receiving Federal Financial Assistance

Correction

In rule document 2025-17428 appearing on page 43540 in the issue of Wednesday, September 16, 2025, make the following correction:

On page 43540, in the second column, in the 9th line from the bottom, “November 9, 2025” should read “December 9, 2025”.

[FR Doc. C1-2025-17428 Filed 9-19-25; 8:45 am]

BILLING CODE 0099-10-D